ENVIRONMENTAL PROTECTION AGENCY

[ER-FRL-6649-8]

Environmental Impact Statements; Notice of Availability

Responsible Agency: Office of Federal Activities, General Information (202) 564-7167 or http://www.epa.gov/compliance/nepa/.

Weekly Receipt of Environmental Impact Statements Filed March 22, 2004 Through March 26, 2004 Pursuant to 40 CAR 1506.9

EIS No. 040135, Final EIS, AFS, CA

McNealy/Sherman Pass Restoration Project, Proposal to Remove Fire-Kill Trees, Road Construction and Associated Restoration of the Area Burned, Sequoia National Forest, Cannel Meadow Ranger District, Tulane County, CA, Wait Period Ends: May 3, 2004, Contact: Tom Simonson (559) 784-1500.

EIS No. 040136, Draft EIS, AFS, MT

Snow Talon Fire Salvage Project, Proposes to Salvage Harvest Trees Burned in the Fire, Helena National Forest, Lincoln Ranger District, Lewis and Clark County, MT, Comment Period Ends: May 17, 2004, Contact: Dan Seaforth (406) 362-4265.

EIS No. 040137, Draft EIS, AFS, OR

Diamond Lake Restoration Project, Improve Water Quality and the Recreational Fishery, Umpqua National Forest, Diamond Lake Ranger District, Umpqua River Basin, Douglas County, OR, Comment Period Ends: May 17, 2004, Contact: Sherrie Chambers (541) 496-3532. This document is available on the Internet at: http://www.fs.fed.us/r6/umpqua.

EIS No. 040138, Final EIS, FHW, AR, MS, I-69

Mississippi River Crossing, Construction from a western terminus at US 65 near McGehee, AR, to an eastern terminus at State Highway 1 near Benoit, MS, US Coast Guard Bridge Permit, US Army Corps Section 10 and 404 Permits, NPDES Permit, Desha County, AR and Bolivar County, MS, Wait Period Ends: May 3, 2004, Contact: Randal Looney (501) 324-6430.

EIS No. 030139, Draft EIS, FHW, WI

Wisconsin Highway Project, Enhance the Mobility of Motorized and Nonmotorized Travel, US 18/151 (Verona Road) and the US 12/14 (Beltine) Corridors, Dane County, WI, Comment Period Ends: May 17, 2004, Contact: Johnny M. Gerbitz (608) 829-7500.

EIS No. 040140, Draft EIS, DOI, UT

Utah Lake Drainage Basin Water Delivery System (ULS), Construction and Operation, Bonneville Unit of the Central Utah Project (CUP), Utah, Salt Lake, Wasatch and Juab Counties, UT, Comment Period Ends: June 11, 2004, Contact: Reed Murray (801) 379-1237.

EIS No. 040141, Draft EIS, AFS, ID

Clearwater National Forest, Proposes to Approve Plans-of-Operation for Small-Scale Suction Dredging in Lolo Creek and Moose Creek, Clearwater National Forest, North Fork Ranger District, Clearwater and Idaho Counties, ID, Comment Period Ends: May 17, 2004, Contact: Vern Bretz (208) 476-4541.

EIS No. 040142, Final EIS, NPS, WI

Apostle Islands National Lakeshore Wilderness Study, Wilderness Designation or Nondesignation, Ashland and Bayfield Counties, WI, Wait Period Ends: May 4, 2004, Contact: Robert Krumenaker (715) 779-3397.

EIS No. 040143, Draft EIS, NPS, OH

Fallen Timbers Battlefield and Fort Miamis National Historic Site, General Management Plan, Implementation, Lucas County, OH, Comment Period Ends: June 1, 2004, Contact: James Speck (419) 535-3050.

EIS No. 040144, Draft EIS, AFS, NV

Martin Basin Rangeland Project, Authorize Continued Livestock Grazing in Eight Allotments: Martin Basin, Indian, West Side Flat Creek, Buffalo, Bradshaw, Buttermilk, Granite Peak and Rebel Creek Cattle and Horse Allotments, Humboldt-Toiyable National Forest, Santa Rosa Ranger District, Humboldt County, NV, Comment Period Ends: May 17, 2004, Contact: Steve Williams Ext 112 (775) 623-5025.

EIS No. 040145, Draft EIS, AFS, MT

Grasshopper Fuels Management Project, Modify Vegetation Conditions, Reduce Fuel Loads and Break up Fuel Continuity, Beaverhead-Deerlodge National Forest, Dillon Ranger District, Beaverhead County, MT, Comment Period Ends: May 17, 2004, Contact: Great Clark (406) 683-3935.

EIS No. 040146, Draft EIS, NPS, WI

Arrowhead-Weston Transmission Line Right-of-Way Crossing of the St. Croix National Scenic Riverway, US Army COE Section 10 and 404 Permits, Washburn County, WI, Comment Period Ends: May 17, 2004, Contact: Jill Medland (715) 483-3284.

EIS No. 040147, Draft Supplement, AFS, OR

Rimrock Ecosystem Restoration Projects, New Information on the Commercial and Non-commercial Thinning Treatments in the C3 Management Area, Umatilla National Forest, Heppner Ranger District, Grant, Morrow and Wheeler Counties, OR, Comment Period Ends: May 17, 2004, Contact: David Centrex (541) 676-9187. This document is available on the Internet. at: http://www.fs.fed/us/r6/uma/projects/readroom/.

EIS No. 040148, Final EIS, FTA, CA

Transbay Terminal/Caltrain Development Downtown Extension/Redevelopment Project, New Multi-Modal Terminal Construction, Peninsula Corridor Service Extension and Establishment of a Redevelopment Plan, Funding, San Francisco, San Mateo and Santa Clara Counties, CA, Wait Period Ends: May 3, 2004, Contact: Jerome Wiggins (415) 744-3115.

Amended Notices

EIS No. 040027, Draft EIS, IBR, NB, CO, WY

Programmatic ES—Platte River Recovery Implementation Program, Assessing Alternatives, Cooperative, Endangered Species Recovery Program, The Four Target Species are Whooping Crane, Interior Least Tern, Piping Plover and Pallid Sturgeon, NB, WY and CO, Comment Period Ends: June 2, 2004, Contact: Curt Brown (303) 445-2096. Revision of FR Notice Published on 1/30/2004: CEQ Comment Period Ending 4/2/2004 has been Extended to 6/2/2004.

Dated: March 30, 2004.
Ken Mittlelholtz,
Environmental Protection Specialist, Office of Federal Activities.

[FR Doc. 04-7482 Filed 4-1-04; 8:45 am]

BILLING CODE 6560-50-P